DEPARTMENT OF ENERGY

Federal Energy Regulatory Commission

Combined Notice of Filings

Take notice that the Commission has received the following Natural Gas Pipeline Rate and Refund Report filings:

Filings Instituting Proceedings

Docket Numbers: RP19-1224-000.

Applicants: Equitrans, L.P.

Description: Compliance filing Notice Regarding Non-Jurisdictional Gathering Facilities (PEB-743) 5-16-2019.

Filed Date: 5/16/19.

Accession Number: 20190516-5070.

Comments Due: 5 p.m. ET 5/28/19.

Docket Numbers: RP19-1225-000.

Applicants: Transcontinental Gas Pipe Line Company, LLC.

Description: § 4(d) Rate Filing: Priority of Service—Compliance Filing to be effective 7/1/2019.

Filed Date: 5/16/19.

Accession Number: 20190516-5097.

Comments Due: 5 p.m. ET 5/28/19.

Docket Numbers: RP15-23-011.

Applicants: Transwestern Pipeline Company, LLC.

Description: Compliance filing RP15-23 Compliance with Order on Reserved Capacity Release Issue to be effective 7/1/2019.

Filed Date: 5/17/19.

Accession Number: 20190517-5006.

Comments Due: 5 p.m. ET 5/29/19.

Docket Numbers: RP19-1016-001.

Applicants: Kinder Morgan Louisiana Pipeline LLC.

Description: Compliance filing Supplemental Compliance Filing Pursuant to Order No. 587-Y to be effective 8/1/2019.

Filed Date: 5/17/19.

Accession Number: 20190517-5000.

Comments Due: 5 p.m. ET 5/29/19.

Docket Numbers: RP19-1017-001.

Applicants: Kinder Morgan Illinois Pipeline LLC.

Description: Compliance filing Supplemental Compliance Filing Pursuant to Order No. 587-Y to be effective 8/1/2019.

Filed Date: 5/17/19.

Accession Number: 20190517-5001.

Comments Due: 5 p.m. ET 5/29/19.

Docket Numbers: RP19-1226-000.

Applicants: Greylock Pipeline, LLC.

Description: Compliance filing Revised negotiated rates 2019 to be effective 3/1/2019.

Filed Date: 5/17/19.

Accession Number: 20190517-5022.

Comments Due: 5 p.m. ET 5/29/19.

Docket Numbers: RP19-1227-000.

Applicants: NEXUS Gas Transmission, LLC.

Description: § 4(d) Rate Filing: Negotiated Rates—Columbia Gas 860005 5-21-2019 Release to be effective 5/21/2019.

Filed Date: 5/17/19.

Accession Number: 20190517-5039.

Comments Due: 5 p.m. ET 5/29/19.

Docket Numbers: RP19-1228-000.

Applicants: Equitrans, L.P.

Description: § 4(d) Rate Filing: Reservation Charge Credit Exemptions to be effective 6/17/2019.

Filed Date: 5/17/19.

Accession Number: 20190517-5083.

Comments Due: 5 p.m. ET 5/29/19.

Docket Numbers: RP19-979-001.

Applicants: Horizon Pipeline Company, L.L.C.

Description: Compliance filing Supplemental Compliance Filing Pursuant Order No. 587-Y to be effective 8/1/2019.

Filed Date: 5/17/19.

Accession Number: 20190517-5027.

Comments Due: 5 p.m. ET 5/29/19.

Docket Numbers: RP19-980-001.

Applicants: Natural Gas Pipeline Company of America.

Description: Compliance filing Supplemental Compliance Filing Pursuant to Order No. 587-Y to be effective 8/1/2019.

Filed Date: 5/17/19.

Accession Number: 20190517-5026.

Comments Due: 5 p.m. ET 5/29/19.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: May 20, 2019.
Nathaniel J. Davis, Sr.,
Deputy Secretary.

[FR Doc. 2019-10881 Filed 5-23-19; 8:45 am]

BILLING CODE 6717-01-P